DEPARTMENT OF TRANSPORTATION

Pipeline and Hazardous Materials Safety Administration

[Docket No. PHMSA-2014-0127]

Pipeline Safety: Information Collection Activities

AGENCY: Pipeline and Hazardous Materials Safety Administration.

ACTION: Notice and request for comments.

SUMMARY: On October 28, 2014, in accordance with the Paperwork Reduction Act of 1995, the Pipeline and Hazardous Materials Safety Administration (PHMSA) published a notice in the Federal Register (79 FR 64249) inviting comments on two information collections that will be expiring on May 31, 2015. PHMSA will request an extension with no change for the information collections identified by Office of Management and Budget (OMB) control numbers 2137-0049 and 2137-0594.

PHMSA received one comment in response to that notice. PHMSA is publishing this notice to provide the public with an additional 30 days to comment on the renewal of the information collections referenced above and announce that the Information Collections will be submitted to OMB for approval.

DATES: Interested persons are invited to submit comments on or before February 23, 2015 to be assured of consideration.

FOR FURTHER INFORMATION CONTACT: Cameron Satterthwaite by telephone at 202-366-1319, by email at cameron.satterthwaite@dot.gov, by fax at 202-366-4566, or by mail at U.S. Department of Transportation, PHMSA, 1200 New Jersey Avenue SE., PHP-30, Washington, DC 20590-0001.

ADDRESSES: You may submit comments identified by the docket number PHMSA-2014-0127 by any of the following methods:

• Fax: 1-202-395-5806.

• Mail: Office of Information and Regulatory Affairs, Records Management Center, Room 10102 NEOB, 725 17th Street NW., Washington, DC 20503, ATTN: Desk Officer for the U.S. Department of Transportation\PHMSA.

• Email: Office of Information and Regulatory Affairs, OMB, at the following email address: OIRA_Submission@omb.eop.gov.

Requests for a copy of the Information Collection should be directed to Cameron Satterthwaite by telephone at 202-366-1319, by fax at 202-366-4566, by email at cameron.satterthwaite@dot.gov, or by mail at U.S. Department of Transportation, PHMSA, 1200 New Jersey Avenue SE., PHP-30, Washington, DC 20590-0001.

SUPPLEMENTARY INFORMATION: Section 1320.8(d), Title 5, Code of Federal Regulations requires PHMSA to provide interested members of the public and affected agencies an opportunity to comment on information collection and recordkeeping requests. This notice identifies two information collection renewal requests that PHMSA will be submitting to OMB for approval. The information collections are titled: “Recordkeeping for Natural Gas Pipeline Operators” (2137-0049) and “Customer-Owned Service Lines” (2137-0594).

Summary of Comments Received

During the 60-day comment period, PHMSA received one comment from an anonymous submitter that emphasized the general importance of public participation regarding pipeline safety requirements.

Proposed Information Collection Revisions and Request for Comments

The following information is provided for each revised information collection: (1) Title of the information collection; (2) OMB control number; (3) Type of request; (4) Abstract of the information collection activity; (5) Description of affected public; (6) Estimate of total annual reporting and recordkeeping burden; and (7) Frequency of collection. PHMSA will request a three-year term of approval for each information collection activity. This is a notice of PHMSA's request to renew the following information collections:

1. Title: Recordkeeping Requirements for Gas Pipeline Operators.

OMB Control Number: 2137-0049.

Current Expiration Date: 05/31/2015.

Type of Request: Renewal of a currently approved information collection.

Abstract: Under Title 49, CFR parts 191 and 192, a person owning or operating a natural gas pipeline facility is required to maintain records, make reports, and provide information to PHMSA upon request.

Affected Public: Owners and operators of natural gas pipeline facilities.

Annual Reporting and Recordkeeping Burden:

Total Annual Responses: 12,300.

Total Annual Burden Hours: 940,454.

Frequency of Collection: On occasion.

2. Title: Customer-Owned Service Lines.

OMB Control Number: 2137-0594.

Current Expiration Date: 02/28/2015.

Type of Request: Renewal of a currently approved information collection.

Abstract: This collection of information about gas customers required by Title 49, CFR 192.16 is used by operators to understand how their customers' buried pipelines are being maintained and by the Office of Pipeline Safety and state authorities to review operator compliance.

Affected Public: Owners and operators of natural gas pipeline facilities; state and local governments.

Annual Reporting and Recordkeeping Burden:

Total Annual Responses: 555,000.

Total Annual Burden Hours: 9,167.

Frequency of Collection: On occasion.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical or other technological collection techniques.

Issued in Washington, DC, on January 20, 2015.
John A. Gale,
Director, Office of Standards and Rulemaking.

[FR Doc. 2015-01152 Filed 1-22-15; 8:45 am]

BILLING CODE 4910-60-P